NATIONAL CREDIT UNION ADMINISTRATION

Agency Information Collection Activities: Proposed Collections; Comment Request

AGENCY: National Credit Union Administration (NCUA).

ACTION: Notice and request for comment.

SUMMARY: The National Credit Union Administration (NCUA), as part of a continuing effort to reduce paperwork and respondent burden, invites the general public and other Federal agencies to comment on the following extension requests of currently approved collections, as required by the Paperwork Reduction Act of 1995 (Pub. L. 104-13, 44 U.S.C. Chapter 35).

DATES: Written comments should be received on or before December 19, 2016 to be assured consideration.

ADDRESSES: Interested persons are invited to submit written comments on the information collections to Dawn Wolfgang, National Credit Union Administration, 1775 Duke Street, Alexandria, Virginia 22314; Fax No. 703-519-8579; or Email at PRAComments@NCUA.gov.

FOR FURTHER INFORMATION CONTACT: Requests for additional information should be directed to the address above.

SUPPLEMENTARY INFORMATION: OMB Number: 3133-0024.

Title: Mergers of Federally-Insured Credit Unions; Voluntary Termination or Conversion of Insured Status, 12 CFR part 708b.

Abstract: Part 708b of NCUA's rules sets forth the procedural and disclosure requirements for mergers of federally-insured credit unions, conversions from federal share insurance to nonfederal insurance, and federal share insurance terminations. Part 708b is designed to ensure NCUA has sufficient information whether to approve a proposed merger, share insurance conversion, or share insurance termination. It further ensures that members of credit unions have sufficient and accurate information to exercise their vote properly concerning a proposed merger, insurance conversion, or insurance termination. The rule also protects the property interests of members who may lose their federal share insurance due to a merger, share insurance conversion, or share insurance termination.

Type of Review: Extension of a previously approved collection.

Affected Public: Private Sector: Businesses or other for-profits.

Estimated No. of Respondents: 214 Mergers; 4 Share Insurance Conversions; 1 Share Insurance Terminations.

Estimated Annual Frequency: 1.

Estimated Annual No. of Responses: 1,519.

Estimated Burden Hours per Respondent: 35 Merger, 15 Share Insurance Conversions; 12 Share Insurance Terminations.

Estimated Total Annual Burden Hours: 7,562.

The adjustment in burden is attributable to a decrease in the number of credit unions engaging in mergers, increase in the number of credit unions engaged in share insurance conversions, correction to the number of hours spent notifying members of proposed conversions, and corrections made in the reporting the number of responses.

OMB Number: 3133-0068.

Title: Nondiscrimination Requirements in Real Estate-Related Lending—Appraisals, 12 CFR 701.31.

Abstract: Section 701.31 of NCUA's regulations implements requirements of the Fair Housing Act. It requires Federal credit unions (FCUs) to maintain a copy of the real estate appraisal used to support an applicant's real estate-related loan application and to make it available to that member/applicant for a period of 25 months (§ 701.31(c)(5)). The regulation also requires FCUs that use the collateral's location as a factor in evaluating real estate-related loan applications to disclose such fact on the appraisal, along with a statement justifying its use (§ 701.31 (c)(4)). NCUA and consumers use the information to ensure compliance with Fair Housing Act nondiscrimination requirements that prohibit consideration of race, color, religion, national origin, sex, handicap, or familial status in real estate appraisals.

Type of Review: Extension of a currently approved collection.

Affected Public: Private Sector: Not-for-profit institutions.

Estimated No. of Respondents/Recordkeepers: 3,721.

Estimated No. of Responses per Respondent: 1.

Estimated Annual Responses: 3,721.

Estimated Burden Hours per Response: 1.

Estimated Total Annual Burden Hours: 3,721.

Adjustments reflect a reduction in the number of respondents due to a decline in the number of FCUs.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on October 17, 2016.
Dated: October 17, 2016.
Dawn D. Wolfgang,
NCUA PRA Clearance Officer.

[FR Doc. 2016-25419 Filed 10-19-16; 8:45 am]

BILLING CODE 7535-01-P